DEPARTMENT OF TRANSPORTATION

Pipeline and Hazardous Materials Safety Administration

[Docket No. PHMSA-07-28590 (Notice No. 07-6)]

Hazardous Materials: Request for Comments on Issues or Problems Concerning International Atomic Energy Agency Regulations for the Safe Transport of Radioactive Materials

AGENCY: Pipeline and Hazardous Materials Safety Administration (PHMSA).

ACTION: Notice; request for comments.

SUMMARY: PHMSA and the U.S. Nuclear Regulatory Commission (NRC) are jointly seeking comments on issues or problems concerning requirements in the International Atomic Energy Agency (IAEA) Regulations for the Safe Transport of Radioactive Material (referred to as TS-R-1). The IAEA is considering revisions to the TS-R-1 regulations as part of its review cycle for a 2011 edition.

DATES: Submit comments by September 5, 2007. Comments received after this date will be considered if it is practical to do so; however, we are only able to assure consideration for proposals received on or before this date.

ADDRESSES: You may submit comments identified by the docket number PHMSA-07-28590 by any of the following methods:

• Federal eRulemaking Portal: http://www.regulations.gov. Follow the instructions for submitting comments.

• Web Site: http://dms.dot.gov. Follow the instructions for submitting comments on the DOT electronic docket site.

• Fax: 1-202-493-2251.

• Mail: U.S. Department of Transportation, Docket Operations, M-30, Room W12-140, 1200 New Jersey Avenue, SE., Washington, DC 20590.

• Hand Delivery: To the Docket Management System; Room W12-140 on the ground floor of the West Building, 1200 New Jersey Avenue, SE., Washington, DC between 9 a.m. and 5 p.m., Monday through Friday, except Federal Holidays.

Instructions: You must include the agency name and docket number PHMSA-07-28590 or the Regulatory Identification Number (RIN) for this notice at the beginning of your proposal. For detailed instructions on submitting proposals and additional information on the rulemaking process, see the Public Participation section of this document. Note that all proposals received will be posted without change to http://dms.dot.gov including any personal information provided. Please see the Privacy Act section of this document.

Docket: You may view the public docket through the Internet at http://dms.dot.gov or in person at the Docket Management System office at the above address.

FOR FURTHER INFORMATION CONTACT: Mr. Rick Boyle, Office of Hazardous Materials Technology, Pipeline and Hazardous Materials Technology, 1200 New Jersey Avenue, SE., Washington, DC 20590, phone number: (202) 366-4545, e-mail: rick.boyle@dot.gov.

SUPPLEMENTARY INFORMATION:

I. Background

The IAEA is the world's center of cooperation in the nuclear field. The Agency works with its Member States and multiple partners worldwide to promote safe, secure and peaceful nuclear technologies. The IAEA established and maintains an international standard, Regulations for the Safe Transport of Radioactive Material (TS-R-1), to promote the safe and secure transportation of radioactive material. The IAEA periodically revises its Regulations for the Safe Transport of Radioactive Material to reflect new information and accumulated experience. The DOT is the U.S. competent authority before the IAEA for radioactive material transportation matters. The NRC provides technical support to the DOT in this regard, particularly with regard to Type B and fissile transportation packages.

The IAEA recently initiated the review cycle for a potential 2011 edition of its regulations. To assure opportunity for public participation in the international regulatory development process, the DOT and the NRC are soliciting comments and information concerning issues or problems with the IAEA Regulations.

The focus of this solicitation is to identify issues or problems with the 2005 edition of TS-R-1. While it is helpful to identify potential changes or solutions to resolve the identified issues or problems, you need not provide a proposed change to accompany each identified issue or problem. This information will assist the DOT and the NRC to consider the full range of views as the agencies develop the proposed issues the United States will submit to the IAEA.

II. Public Participation

Proposed issues or identified problems should identify docket number PHMSA-07-28590 (Notice No. 07-6). Persons wishing to receive confirmation of receipt of their proposals should include a self-addressed stamped postcard. Internet users may access all proposals received by the U.S. Department of Transportation at http://dms.dot.gov.

Proposals must be submitted in writing (electronic file on disk in Microsoft Word format preferred) and should include:

• Name;

• Address;

• Telephone number;

• E-mail address;

• Principal objective of issue or identified problem (e.g., required to provide adequate protection to health and safety of public and occupational workers, needed to define or redefine level of protection to health and safety of public and occupational workers, required for consistency within the IAEA Transport Regulations, required as a result of advances in technology, needed to improve implementation of the IAEA Transport Regulations);

• A description of the issue or the identified problem by reference to or using the table of contents of TS-R-1 (2005 Edition) and the Advisory Material for the IAEA Regulations for the Safe Transport of Radioactive Material (TS-G-1.1 (ST-2));

• Justification for proposed change—a clear statement of the main objectives of the proposed change and the solution “path” (e.g., change to regulations, additional guidance, a research project);

• An assessment of the benefits and impacts of the proposed change, including identification of affected parties, changes in public and occupational exposure, changes in accident risk, and effects on health, safety or the environment;

• Paragraphs of the current regulations (TS-R-1) affected (existing text, and proposed new text);

• Paragraphs affected and proposed text change to IAEA advisory material in TS-G-1.1;

• A listing of any applicable reference documents; and

• Expected cost of implementation (negligible, low, medium or high).

The DOT and the NRC will review the proposed issues and rationales. In addition to issues proposed in response to this notice, the DOT is considering submitting issues regarding nuclear power plant large component transport and clarification of TS-R-1 paragraph 619 on pressure requirements for air transport of packages.

Proposed issues and identified problems from all Member States and International Organizations will be considered at an IAEA Transport Safety Standards Committee (TRANSSC) Meeting to be convened by IAEA on October 1-5, 2007, in Vienna, Austria.

Prior to that meeting, the DOT and the NRC will consider convening a public meeting to discuss the U.S. proposals submitted to the IAEA.

III. Privacy Act

Anyone is able to search the electronic form of all proposed changes received into any of our dockets by the name of the individual submitting the proposed change (or signing the proposed change, if submitted on behalf of an association, business, labor union, etc.). You may review DOT's complete Privacy Act Statement in the Federal Register published on April 11, 2000 (Volume 65, Number 70; Pages 19477-78) or you may visit http://dms.dot.gov.

Issued in Washington, DC on August 7, 2007.
Theodore L. Willke,
Associate Administrator for Hazardous Materials Safety.

[FR Doc. E7-15741 Filed 8-10-07; 8:45 am]

BILLING CODE 4910-60-P